DEPARTMENT OF HEALTH AND HUMAN SERVICES

Centers for Disease Control and Prevention

[60Day-02-73]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project

Survey of Awareness, Knowledge, and Use of the National Report on Human Exposure to Environmental Chemicals by Health Care Providers, Public Health Professionals, Policy Makers, and Environmental Scientists—New—National Center for Environmental Health (NCEH), Centers for Disease Control and Prevention (CDC).

Background

A survey is proposed to determine audience awareness, knowledge, and uses of the National Report on Human Exposure to Environmental Chemicals. The Division of Laboratory Sciences at the National Center for Environmental Health released the first of a series of biomonitoring reports, The National Report on Human Exposure to Environmental Chemicals, in March 2001. The next report is planned for late fall 2002. The first Report, published in 2001, established baseline data on 24 chemicals (metals, organophosphate pesticides, and phthalates) and trend data on lead, cadmium, and cotinine, which is a metabolite of nicotine. The 2002 Report will provide measurements for at least 75 more chemicals, including new data on the 27 chemicals listed in the 2001 Report. Subsequent reports will add more chemicals and trend data on chemicals included in previously published reports.

A survey is proposed to determine target audiences' awareness of the report, knowledge about the contents of the report, and audience uses of data in the report. Target audiences who will be surveyed include: (1) Scientists conducting research in related fields; (2) State, local, and public health agencies conducting health interventions and research on chemical exposures; (3) healthcare providers and other clinicians; and (4) local and State policy makers who regulate or make recommendations concerning uses and control of environmental chemicals.

The general purpose of the Report is “to provide unique exposure information to scientists, physicians, and health officials to help prevent disease that results from exposure to environmental chemicals.” There is no cost to the respondents.

Respondents | Number of respondents | Number of responses/respondent | Avg. burden/response (in hrs.) | Total burden (in hrs.)
Environmental Scientists | 250 | 1 | 1 | 250
Public Health Officials | 250 | 1 | 1 | 250
Health Care Providers | 250 | 1 | 1 | 250
Policy Makers | 250 | 1 | 1 | 250
Total |  |  |  | 1,000

Dated: August 15, 2002.
Nancy E. Cheal,
Acting Associate Director for Policy, Planning and Evaluation, Centers for Disease Control and Prevention.

[FR Doc. 02-21354 Filed 8-21-02; 8:45 am]

BILLING CODE 4163-18-P